DEPARTMENT OF LABOR

Office of the Secretary

Submission for OMB Emergency Review; Comments Requested

April 12, 2005.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by May 13, 2005. A copy of this ICR, with applicable supporting documentation, may be obtained by calling the Department of Labor Departmental Clearance Officer, Ira L. Mills (202) 693-4122.

Comments and questions about the ICR listed below should be forwarded to the Office of Information and Regulatory Affairs, Attn: OMB Desk Officer for the Employment and Training Administration, Room 10235, Washington, DC 20503. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

AGENCY: Employment and Training Administration.

Title: Reporting and Performance Standards System for the Migrant and Seasonal Farmworker Program Under Title I, Section 167 of the Workforce Investment Act (WIA).

OMB Number: 1205-0425.

Affected Public: State, Local, or Tribal Government.

Form/activity | Total respondents | Frequency | Total responses | Average time per response | Total annual burden hours
Plan Narrative | 53 | Annual | 53 | 20 | 1,060
ETA 9093 | 53 | Annual | 53 | 15 | 795
ETA 9094 | 53 | Annual | 53 | 16 | 848
ETA 9095 | 53 | Quarterly | 212 | 7 | 1,484
WIASPR Data | 53 | On Occasion | 29,500 | 2.25 | 66,375
Totals | 53 |  | 29,871 | 60.25 | 70,562

Total Burden Cost (capital/startup): $0.

Total Burden Cost (operating/maintaining): $0.

Description: Each grantee administering funds under the MSFW program is required to submit a program planning report (ETA Form 9094), a budget information summary report (ETA Form 9093), and a quarterly program status report (ETA Form 9095). This latter form contains information related to levels of participation and service, related assistance activities, and actual placements in employment. In addition, each grantee submits a quarterly file of individual records on all participants who exit the program, called the Workforce Investment Act Standardized Participant Record (WIASPR). The current MSFW reporting and recordkeeping system expires in June 2005.

This is a request to revise the current MSFW program reporting requirements to include data elements necessary for assessing grantee progress against common measures of performance beginning July 1, 2005. In 2002, under the President's Management Agenda, OMB and other Federal agencies developed a set of common performance measures to be applied to certain Federally-funded employment and training programs with similar strategic goals. Although the common measures are an integral part of ETA's performance accountability system, these measures provide only part of the information necessary to effectively oversee the workforce investment system. ETA will continue to collect from grantees data on program activities, participants, and outcomes that are necessary for program management and to convey full and accurate information on the performance of workforce programs to policymakers and stakeholders.

The value of implementing common measures is the ability to describe in a similar manner the core purposes of the workforce system—how many people found jobs; did people stay employed; and did earnings increase. Multiple sets of performance measures have burdened states and grantees as they are required to report performance outcomes based on varying definitions and methodologies. By minimizing the different reporting and performance requirements, common performance measures can facilitate the integration of service delivery, reduce barriers to cooperation among programs, and enhance the ability to assess the effectiveness and impact of the workforce investment system, including the performance of the system in serving individuals facing significant barriers to employment.

This revision to the MSFW program reporting requirements identifies a minimum level of information collection that is necessary to comply with Equal Opportunity requirements, holds grantees appropriately accountable for the Federal funds they receive, including common performance measures, and allows the Department to fulfill its oversight and management responsibilities.

Ira L. Mills,
Departmental Clearance Officer/Team Leader.

[FR Doc. E5-1875 Filed 4-20-05; 8:45 am]

BILLING CODE 4510-30-P